DEPARTMENT OF LABOR

Employment and Training Administration

[TA-W-50,158]

Alcatel USA Marketing, Inc., Voice Network Division, PB3 Building, Jupiter 1 Building, Plano, TX; Amended Certification Regarding Eligibility To Apply for Worker Adjustment Assistance

In accordance with section 223 of the Trade Act of 1974 (19 U.S.C. 2273) the Department of Labor issued a Certification of Eligibility to Apply for Worker Adjustment Assistance on March 7, 2003, applicable to workers of Alcatel USA Marketing, Inc., Voice Network Division (VND), PB3 Building, Plano, Texas, engaged in the production of printed circuit boards (PCBs). The notice was published in the Federal Register on March 26, 2003 (68 FR 17407).

At the request of the State agency, the Department reviewed the certification for workers of the subject firm.

New information provided by the State agency representative and a company official, reveal that the overflow of PCB's manufactured at Alcatel USA Marketing, Inc., Voice Network Division, PB3 Building, are produced at the company's Jupiter 1 Building in Plano, Texas. Employment at Jupiter 1 has declined.

The intent of the Department's certification is to include all workers of the firm adversely affected by the shift in production of PCBs to Mexico.

Accordingly, the certification is being amended to include workers at Jupiter 1 Building engaged in employment related to the production of PCBs at Alcatel USA Marketing, Inc., Voice Network Division, Plano, Texas.

The amended notice applicable to TA-W-50,158 is hereby issued as follows:

Workers of Alcatel USA Marketing, Inc., Voice Network Division, PB3 Building, and Jupiter 1 Building, Plano, Texas, engaged in the production of printed circuit boards (PCBs), who became totally or partially separated from employment on or after November 19, 2001, through March 7, 2005, are eligible to apply for adjustment assistance under Section 223 of the Trade Act of 1974.

Signed at Washington, DC, this 15th day of July, 2003.
Linda G. Poole,
Certifying Officer, Division of Trade Adjustment Assistance.

[FR Doc. 03-18824 Filed 7-23-03; 8:45 am]

BILLING CODE 4510-30-P